DEPARTMENT OF VETERANS AFFAIRS

National Research Advisory Council; Notice of Meeting

The Department of Veterans Affairs (VA) gives notice under the Federal Advisory Committee Act, 5 U.S.C., App. 2, that the National Research Advisory Council will hold a meeting on Wednesday, March 8, 2017, in Conference Room 730, 810 Vermont Avenue NW., Washington, DC. The meeting will convene at 9:00 a.m. and end at 3:00 p.m. This meeting is open to the public.

The agenda will include introduction to the new Chief of Research & Development Officer, annual Ethics training, new initiatives, Research priorities and Service updates.

No time will be allocated at this meeting for receiving oral presentations from the public. Members of the public wanting to attend may contact Ms. Melissa Cooper, Designated Federal Officer, ORD (10P9), Department of Veterans Affairs, 810 Vermont Avenue NW., Washington, DC, 20420, at (202) 461-6044, or by email at Melissa.Cooper@va.gov no later than close of business on February 28, 2017. Because the meeting is being held in a Government building, a photo I.D. must be presented at the Guard's Desk as a part of the clearance process. Due to security protocols, and in order to prevent delays in clearance processing, you should allow an additional 30 minutes before the meeting begins. Any member of the public seeking additional information should contact Ms. Cooper at the phone number or email address noted above.

Dated: January 31, 2017.
LaTonya L. Small,
Advisory Committee Management Officer.

[FR Doc. 2017-02310 Filed 2-2-17; 8:45 am]

BILLING CODE P